DEPARTMENT OF COMMERCE

National Oceanic and Atmospheric Administration

50 CFR Part 635

[Docket No. 140115049-4528-02]

RIN 0648-XD092

Atlantic Highly Migratory Species; 2014 Atlantic Bluefin Tuna Quota Specifications

AGENCY: National Marine Fisheries Service (NMFS), National Oceanic and Atmospheric Administration (NOAA), Commerce.

ACTION: Final rule.

SUMMARY: NMFS establishes 2014 quota specifications for the Atlantic bluefin tuna (BFT) fishery. This action is necessary to implement binding recommendations of the International Commission for the Conservation of Atlantic Tunas (ICCAT), as required by the Atlantic Tunas Convention Act (ATCA), and to achieve domestic management objectives under the Magnuson-Stevens Fishery Conservation and Management Act (Magnuson-Stevens Act).

DATES: Effective August 2, 2014 through December 31, 2014.

ADDRESSES: Supporting documents such as the Environmental Assessments and Fishery Management Plans described below may be downloaded from the HMS Web site at www.nmfs.noaa.gov/sfa/hms/. These documents also are available upon request from Sarah McLaughlin or Brad McHale at the telephone number below.

FOR FURTHER INFORMATION CONTACT: Sarah McLaughlin or Brad McHale, 978-281-9260.

SUPPLEMENTARY INFORMATION: Atlantic bluefin tuna, bigeye tuna, albacore tuna, yellowfin tuna, and skipjack tuna (hereafter referred to as “Atlantic tunas”) are managed under the dual authority of the Magnuson-Stevens Act and ATCA. As an active member of ICCAT, the United States implements binding ICCAT recommendations. ATCA authorizes the Secretary of Commerce (Secretary) to promulgate regulations, as may be necessary and appropriate to carry out ICCAT recommendations. The authority to issue regulations under the Magnuson-Stevens Act and ATCA has been delegated from the Secretary to the Assistant Administrator for Fisheries, NMFS.

Background

NMFS annually implements BFT quota specifications to adjust the annual U.S. baseline BFT quota to account for any underharvest or overharvest of the adjusted U.S. BFT quota from the prior year.

In May 2011, NMFS prepared an Environmental Assessment (EA)/Regulatory Impact Review/Final Regulatory Flexibility Analysis for a final rule that: (1) Implemented and allocated the U.S. BFT quota recommended by ICCAT for 2011 and for 2012 (ICCAT Recommendation 10-03); (2) adjusted the 2011 U.S. quota and subquotas to account for unharvested 2010 quota allowed to be carried forward to 2011, and to account for a portion of the estimated 2011 dead discards up front; and (3) implemented several other BFT management measures (76 FR 39019, July 5, 2011). In that final rule, NMFS implemented the 923.7-mt baseline quota consistent with ICCAT Recommendation 10-03 and set the domestic BFT fishing category subquotas per the allocation percentages established in the 2006 Consolidated Atlantic Highly Migratory Species Fishery Management Plan (2006 Consolidated HMS FMP) and implementing regulations (71 FR 58058, October 2, 2006). The baseline quota and category subquotas are codified and remain effective until changed (for instance, if any new ICCAT BFT Total Allowable Catch (TAC) recommendation is adopted). NMFS prepared a Supplemental EA for the 2013 BFT Quota Specifications (78 FR 36685, June 19, 2013) to present updated information regarding the affected environment, including information from a 2012 ICCAT stock assessment for BFT, among other things. ICCAT conducted a stock assessment update in 2013, although the results were not substantively different than those of the 2010 and 2012 assessments, which were analyzed in the May 2011 EA and June 2013 Supplemental EA.

In its 2013 recommendation (Recommendation 13-09—Recommendation by ICCAT Amending the Supplemental Recommendation by ICCAT concerning the Western Atlantic BFT Rebuilding Program), ICCAT recommended a one-year rollover of the 1,750-mt TAC. This amount is expected to allow for continued stock growth under both the low and high stock recruitment scenarios, considering the 2013 ICCAT BFT stock assessment update. The annual U.S. baseline quota for 2014 continues to be 923.7 mt, and the annual total U.S. quota, including 25 mt to account for bycatch related to pelagic longline fisheries in the Northeast Distant gear restricted area (NED), continues to be 948.7 mt.

Until the final specifications for 2014 are effective, the existing BFT baseline quota and subquotas continue to apply as codified. (See Table 1, second column.) Although the baseline quota is unchanged this year because the 2013 ICCAT recommendation included the same TAC as the prior recommendation, NMFS is carrying forward underharvest from 2013, consistent with the 2006 Consolidated HMS FMP and the ICCAT recommendation. Thus, this final action adjusts the quota as appropriate and allowable for the 2014 fishing year. Further background information, including the need for the 2014 BFT quota specifications, was provided in the preamble to the proposed rule (79 FR 18870, April 4, 2014) and is not repeated here.

Changes From the Proposed Rule

NMFS determines the amount of BFT quota actually available for the year by adjusting the ICCAT-recommended baseline BFT quota for overharvest or underharvest from the previous fishing year and any accounting for dead discards. For the proposed rule, NMFS used a 219.5-mt estimate as a proxy for potential 2014 dead discards, based on the 2012 estimate of 205.8 mt for the pelagic longline fishery and the 2013 observed dead discards of 13.7 mt for the purse seine fishery, because the BFT pelagic longline dead discard estimate for 2013 was not yet available. The preliminary 2013 pelagic longline dead discard estimate of 127.1 mt is now available from the NMFS Southeast Fisheries Science Center. Adding the 2013 observed dead discards of 13.7 mt for the purse seine fishery, the best available annual estimate of U.S. dead discards that could be expected in 2014 is now 140.8 mt. As anticipated and explained to the public at the proposed rule stage, NMFS is using the updated total in this final rule because it is the best available and most complete information NMFS has regarding dead discards.

Based on preliminary data available as of May 30, 2014, BFT landings in 2013 totaled 518.6 mt. Adding the 140.8-mt estimate of dead discards results in a preliminary 2013 total catch of 659.4 mt, which is 384.2 mt less than the amount of quota (inclusive of dead discards) allowed under ICCAT Recommendation 13-09 (i.e., 948.7 mt plus 94.9 mt of 2012 underharvest carried forward to 2013, totaling 1,043.6 mt). Thus, the underharvest for 2013 is 384.2 mt. ICCAT limits the amount of underharvest that may be carried forward from one year to the next to no more than 10 percent of a country's total quota, which limits the amount of 2013 U.S. underharvest that may be carried forward to 2014 to 94.9 mt. NMFS anticipated this amount of available underharvest to carry forward to 2014 in the proposed rule.

As anticipated in the proposed rule, for the Longline category, NMFS is accounting up front (i.e., at the beginning of the fishing year) for half of the expected dead discards for 2014, using the best available estimate of dead discards (now the 2013 estimate), and deducting that portion directly from the baseline Longline category subquota. This is the same approach that NMFS took for the final 2011 through 2013 BFT quota specifications. Consistent with that approach, NMFS proposed to deduct half of the anticipated purse seine vessel dead discards from the Purse Seine category subquota up front. NMFS does so in the final rule as well after considering the relevant comments and the relevant regulatory criteria. Thus, for the Purse Seine category NMFS is deducting half of the 2013 observed dead discards (as an estimate of potential 2014 dead discards) from the baseline Purse Seine category subquota.

Regarding the unharvested 2013 BFT quota, NMFS had proposed to carry 94.9 mt of available underharvest forward to 2014 and apply the full 94.9 mt to the Longline category. NMFS stated that any necessary adjustments to the 2014 specifications would be made in the final rule after considering updated 2013 landings information and the 2013 pelagic longline dead discard estimate.

Considering the best available information regarding 2013 landings and estimated dead discards, as well as actual 2014 Longline category BFT landings to date and domestic management needs for 2014, NMFS is finalizing the 2014 BFT specifications as follows: As shown in the third column of Table 1, NMFS is accounting for half of the 2013 pelagic longline dead discard estimate of 127.1 mt (i.e., 63.6 mt) up front by deducting that portion of estimated longline discards directly from the baseline Longline category subquota of 74.8 mt. NMFS is also accounting for half of the 2013 observed purse seine dead discards of 13.7 mt (6.9 mt) up front by deducting that portion of the discards directly from the baseline Purse Seine category subquota of 171.8 mt. NMFS has decided in the final rule to provide 6.9 mt of the 2013 underharvest that can be carried forward to 2014 (i.e., 94.9 mt) to the Purse Seine category and provide the remainder (88.0 mt) to the Longline category (fourth column). Given the reduction in the pelagic longline dead discard estimate from 2012 to 2013, and the associated reduction in the deduction from the Longline category to account for one half of dead discards up front, NMFS has determined that providing 6.9 mt of the available underharvest to the Purse Seine category is appropriate as it provides the Purse Seine category its baseline subquota amount, consistent with NMFS' approach for the past several years of maintaining the directed fishing categories at their baseline quotas. It also provides the Longline category a reasonable amount of quota for 2014 and reduces potential “regulatory discards” that may otherwise result if closure of the Longline category fishery to BFT retention is necessary mid-year, as discussed in the proposed rule.

Although these final quota specifications adjust the Longline quota to an amount greater than its baseline subquota, it is important to note that in 2011 and 2013, the adjusted Longline category quota was substantially lower than the baseline subquota, and it was necessary to close the Longline category fishery to BFT retention in June 2013. The Longline category was also closed in June in 2012 when the base quota was reached. Landings by the directed handgear categories in 2013 did not approach the available quotas for those categories (e.g., 64 percent, 48 percent, and 72 percent of the General, Harpoon, and Angling categories were harvested, respectively). Thus, there is not a demonstrated need for NMFS to expand the subquotas for the directed handgear categories beyond their base subquotas at this time or to provide additional quota to the Reserve category. NMFS will monitor landings closely and may take action to transfer quota among categories, including the Reserve category, if appropriate, based on consideration of the regulatory determination criteria regarding inseason adjustments at § 635.27(a)(8). These criteria include: The usefulness of information obtained from catches in the particular category for biological sampling and monitoring of the status of the stock; effects of the adjustment on BFT rebuilding and overfishing; effects of the adjustment on accomplishing the objectives of the fishery management plan; variations in seasonal BFT distribution, abundance, or migration patterns; effects of catch rates in one area precluding vessels in another area from having a reasonable opportunity to harvest a portion of the category's quota; and review of dealer reports, daily landing trends, and the availability of BFT on the fishing grounds. In these quota specifications, NMFS is balancing the need of the pelagic longline fishery to continue fishing for swordfish and Atlantic tunas with the need of directed bluefin fisheries participants to receive their base quota.

2014 Quota Specifications

In this final rule, NMFS deducts half of the 2013 pelagic longline dead discard estimate of 127.1 mt directly from the baseline Longline category quota of 74.8 mt and applies the 88.0 of the 94.9 mt allowed to be carried forward to 2014 to the Longline category, for an adjusted Longline subquota of 99.2 mt (i.e., 74.8 −63.6 + 88.0 = 99.2 mt), not including the 25-mt allocation set aside by ICCAT for the NED. For the Purse Seine category, NMFS deducts half of the 2013 observed dead discards (as an estimate of potential 2014 dead discards) from the baseline Purse Seine category quota of 171.8 mt and applies 6.9 of the 94.9 mt allowed to be carried forward to 2014 for an adjusted quota of 171.8 mt (i.e., 171.8 −6.9 + 6.9 = 171.8 mt). For the handgear categories, as well as the Trap category (in which BFT may be caught incidentally), NMFS maintains the codified baseline BFT quotas and subquotas that were established in July 2011 (76 FR 39019, July 5, 2011), as proposed.

Thus, in accordance with ICCAT Recommendation 13-09, the 2006 Consolidated HMS FMP allocation scheme for the domestic categories, and regulations regarding annual adjustments at § 635.27(a)(10), NMFS establishes BFT quota specifications for the 2014 fishing year as follows, and as shown in Table 1: General category—435.1 mt; Harpoon category—36 mt; Purse Seine category—171.8 mt; Angling category—182 mt; Longline category—99.2 mt; and Trap category—0.9 mt. The Longline category quota of 99.2 mt is subdivided as follows: 39.7 mt to pelagic longline vessels landing BFT north of 31° N. latitude, and 59.5 mt to pelagic longline vessels landing BFT south of 31° N. latitude. NMFS accounts for landings under the 25-mt NED allocation separately from other Longline category landings. The amount allocated to the Reserve category for inseason adjustments, scientific research collection, potential overharvest in any category except the Purse Seine category, and potential quota transfers, is 23.1 mt.

As described in the proposed rule, NMFS considers the specifications approaches taken in 2011 through 2014 as a transition from the method used for 2007 through 2010, as NMFS continues to develop Amendment 7 to the 2006 Consolidated HMS FMP. Among other things, Amendment 7 would reallocate BFT quota among categories in a way to more accurately reflect annual fishery operations and needs while decreasing bycatch in the non-directed fisheries. This amendment will address related BFT fishery management issues consistent with the need to end overfishing and rebuild the stock, including revisiting quota allocations; reducing and accounting for dead discards; adding or modifying time/area closures or gear-restricted areas; and improving the reporting and monitoring of dead discards and landings in all categories. Depending on the management measures implemented in the Amendment 7 final rule, the quota specifications process may be substantially different in upcoming years. NMFS anticipates publishing a final rule to implement Amendment 7 in Fall 2014, with implementation dates varying by topic.

Table 1—Final 2014 Atlantic Bluefin Tuna (BFT) Quotas and Quota Specifications
[In metric tons]
Category (% share of baseline quota) | Baseline allocation (per current ICCAT recommendation and the 2006 consolidated HMS FMP allocations) | 2014 Quota specifications: Dead discard deduction | 2014 Quota specifications: 2013 underharvest to carry forward to 2014 | 2014 Quota specifications: Adjusted 2014 fishing year quota
Total (100) | 923.7 ¹ | −70.5 | +94.9 | 948.1
Angling (19.7) | 182.0 |  |  | 182.0
| SUBQUOTAS: |  |  | SUBQUOTAS:
| School—94.9 Reserve—17.6 North—36.5 South—40.8 |  |  | School—94.9 Reserve—17.6 North—36.5 South—40.8
| LS/SM—82.9 North—39.1 South—43.8 |  |  | LS/SM—82.9 North—39.1 South—43.8
| Trophy—4.2 North—1.4 South—2.8 |  |  | Trophy—4.2 North—1.4 South—2.8
General (47.1) | 435.1 |  |  | 435.1
| SUBQUOTAS: |  |  | SUBQUOTAS:
| Jan—23.1 Jun-Aug—217.6 Sept—115.3 Oct-Nov—56.6 Dec—22.6 |  |  | Jan—23.1 Jun-Aug—217.6 Sept—115.3 Oct-Nov—56.6 Dec—22.6
Harpoon (3.9) | 36.0 |  |  | 36.0
Purse Seine (18.6) | 171.8 | −6.9 ² | +6.9 | 171.8
Longline (8.1) | 74.8 | −63.6 ³ | +88.0 | 99.2
| SUBQUOTAS: North (-NED)—29.9 NED—25.0 * South—44.9 |  |  | SUBQUOTAS: North (-NED)—39.7 NED—25.0 * South—59.5
Trap (0.1) | 0.9 |  |  | 0.9
Reserve (2.5) | 23.1 |  |  | 23.1
¹ 25-mt ICCAT set-aside to account for bycatch of BFT in pelagic longline fisheries in the NED. Not included in totals at top of table.
² (½ of 2013 observed purse seine dead discards of 13.7 mt as estimate for 2014).
³ (½ of 2013 pelagic longline dead discard estimate of 127.1 mt as estimate for 2014).

Comments and Responses

NMFS received a total of nine written comments to the proposed rule, as well as three verbal comments at the HMS Advisory Panel April meeting and a public conference call/webinar.

Few of the comments NMFS received focused specifically on the proposed quota specifications. Below, NMFS summarizes and responds to all comments made specifically on the proposed rule during the comment period. Most of the comments received were outside the scope of this rule and are summarized under “Other Issues” below.

Comment 1: Two commenters supported implementing a lower U.S. bluefin quota or a quota of zero.

Response: NMFS is required under the Magnuson-Stevens Act and ATCA to provide U.S. fishing vessels with a reasonable opportunity to harvest the ICCAT-recommended quota. The western Atlantic BFT TAC, which includes the U.S. quota, is expected to allow for continued BFT stock growth under both the low and high stock recruitment scenarios considered by ICCAT's Standing Committee on Research and Statistics and is consistent with ICCAT recommendations, ATCA, and domestic and international management objectives.

The approach used for these final 2014 quota specifications is an appropriate continuation of the approach used in 2011 through 2013 as a transition from the method used from 2007 through 2010. Changes in ICCAT's approach to western BFT management in 2006 (i.e., discontinuation of the dead discard allowance, and the associated provision that the western Atlantic BFT TAC Catch include dead discards) have had implications for NMFS' domestic management of the fishery, because landings and dead discards must be accounted for within the total U.S. quota (rather than an additional allocation for dead discards). This interim approach balances the needs of the pelagic longline fishery to continue fishing for swordfish and Atlantic tunas with the needs of directed BFT fisheries participants.

Comment 2: Two commenters supported finalizing the specifications as proposed but encouraged NMFS to change regulations (i.e., modify when the General category is open as well as the percentage allocations to the General category subquotas) to allow more of the available bluefin quota to be harvested.

Response: This rulemaking addresses adjustment of the U.S. baseline quota for 2014 with the available underharvest from 2013. Issues regarding management measures, such as the opening dates for the General category, are beyond the scope of this rulemaking. NMFS notes, however, that to date in 2014, NMFS has taken three inseason actions to increase the General and Angling category retention limit from the default levels (78 FR 77362; December 23, 2013; 79 FR 25707, May 6, 2014; and 79 FR 30745, May 29, 2014). These actions may result in more of the General and Angling category subquotas to be harvested, relative to 2013, depending on the availability of BFT to the fisheries.

Regarding the comments related to the allocations to the General category subquotas, NMFS makes the baseline allocations consistent with the formula established in the 2006 Consolidated HMS FMP. Changes to the baseline BFT subquota allocations and category-specific management measures are outside the scope of this rulemaking. Specific to the General category open season and subquota allocations, these issues are being considered in Amendment 7.

Comment 3: One commenter believes that underreporting is occurring and that there cannot actually be any underharvest of the 2013 quota.

Response: NMFS collects BFT landings data through multiple closely monitored reporting systems. Commercial BFT harvest data are reported through dealers within 24 hours of landing. As a condition of the HMS Angling category vessel permit, owners are required to report recreational landings through the Automated Catch Reporting System or, in certain states, through catch cards, also within 24 hours of landing, and to comply with the Large Pelagics Survey during dockside or telephone interviews. NMFS also has multiple domestic and international reporting obligations which require close monitoring and/or reliable estimates of dead discards. In preparing the quota specifications and other fishery management actions, NMFS uses the best available data, and in cases where information is not yet available, uses the most recent, complete information as a proxy for the amount that could be expected (such as anticipated dead discards in the current fishing year). As described above, the best available information as of the end of May indicates that there is an approximately 384-mt underharvest of the 2013 adjusted U.S. quota. Carrying forward underharvest (limited to no more than 10 percent of the total U.S. quota) is consistent with the ICCAT recommendation, ATCA, and the BFT quota regulations that implement the western Atlantic BFT rebuilding plan adopted at ICCAT and relevant measures in the 2006 Consolidated HMS FMP.

Comment 4: One commenter encouraged NMFS to deduct the full amount of Purse Seine bluefin dead discards from the baseline Purse Seine category quota, and to extrapolate the dead discards for any unobserved sets.

Response: Deducting half of the 2013 observed dead discards up front is consistent with NMFS' past practice of deducting half of the pelagic longline dead discards estimate up front. As described in the proposed rule, NMFS is accounting proactively for half of the best estimate of dead discards at the beginning of the fishing year, and total 2014 U.S. landings and dead discards will be accounted for at the end of the year and reported to ICCAT in 2015.

Regarding the pelagic longline fishery, which has a greater proportion of unobserved trips than the purse seine fishery, NMFS currently applies a BFT dead discard extrapolation methodology that has been approved by ICCAT's Standing Committee on Research and Statistics to calculate and report dead discards for both stock assessment purposes and quota compliance purposes. Furthermore, the observed amount of BFT dead discards from the Purse Seine category in 2013 accurately reflects the total 2013 BFT dead discards for that category and it is not necessary to extrapolate the amount, given the recent participation level (number of vessels and trips) and observer coverage in 2013. If such extrapolation were to become necessary, NMFS would consult with its Fisheries Science Centers on the appropriate method.

Comment 5: Three commenters opposed deducting Purse Seine dead discard estimates from the baseline Purse Seine category quota for various reasons including: it is inappropriate and unnecessarily highlights dead discards given that the Purse Seine category could absorb these discards within the available quota (unlike the Longline category, for which total catch vastly exceeds available quota); Purse Seine dead discards for 2013 could be counted against the 2013 Reserve category instead; and it sets a precedent that could be applied to the handgear categories as well.

Response: As proposed, NMFS is accounting up front (i.e., at the beginning of the fishing year) for half of the expected dead discards for 2014, using the best estimate of dead discards, from the Longline and Purse Seine category subquotas, as applicable. The U.S. BFT quota includes dead discards. To comply with ICCAT Recommendation 13-09, the United States reports BFT landings and dead discards by gear type annually via the U.S. National Report to ICCAT. To not account for the dead discards that could be expected in 2014 based on the best available information or to count the 2013 observed purse seine BFT dead discards against the 2013 Reserve would be inconsistent with NMFS' annual quota specifications approach over the last several years and would inappropriately treat the purse seine and longline sectors differently in the current quota specifications process. After considering total 2013 BFT landings and the 2013 BFT dead discard estimate, however, NMFS has decided that 6.9 mt of the available underharvest will be provided to the Purse Seine category in the final specifications, effectively adjusting the Purse Seine category quota for 2014 to its base level. This is consistent with NMFS' specifications practice in the past several years of keeping the directed categories at their baseline quotas, while still providing a reasonable amount of quota for pelagic longline operations as the fleet continues directed fishing operations for swordfish and other tunas.

NMFS does not consider accounting for dead discards within the Purse Seine category to be setting a precedent as characterized by the commenter. Through Amendment 7, NMFS is considering how best to reduce and account for BFT dead discards, as well as methods to improve reporting and monitoring of all BFT discards and landings (i.e., for all gear types) in the future. As stated in the proposed rule, depending on the management measures implemented in the Amendment 7 final rule, the quota specifications process may be substantially different in upcoming years.

Other Issues

In addition to the above comments specifically on the content of the proposed rule, other comments raised issues beyond the scope of this rule, regarding HMS management measures generally, as well as those specifically considered in Amendment 7. Specifically, commenters articulated: support for NMFS to eliminate the annual percentage limit on the total weight of large medium BFT (73 to less than 81 inches) that Purse Seine category vessels can harvest, which the commenters perceive as inconsistent with regulations that apply to other commercial categories, a cause of regulatory discards, and not based on current research on the size of bluefin at maturity; support for allowing Purse Seine category vessels to retain bluefin as small as the ICCAT minimum size (i.e., 47 inches); support for expanded research funding and improved access for researchers to biological samples; support for adaptive management of BFT fisheries for optimal economic, scientific, and conservation returns; full support for implementation of Amendment 7 as proposed; support for 100-percent observer coverage of Purse Seine vessels; opposition to pelagic longlining and harpooning of tunas; opposition to Mediterranean Sea bluefin harvests; and opposition to ICCAT deducting the U.S. 25-mt allocation for bycatch in the vicinity of the western/eastern Atlantic BFT management area boundary from the western Atlantic BFT Total Allowable Catch since 2002, when that language was first added to the western Atlantic BFT Recommendation.

NMFS anticipates that Amendment 7 may address some of the issues raised in comments that were outside the scope of the 2014 BFT quota specifications. Some of the ICCAT issues raised involve international management and could not be addressed by the United States unilaterally. The remaining domestic management issues would have to be considered in the context of future management action(s). In addition to the formal regulatory process of proposed and final rulemaking, NMFS considers issues, discussed management ideas, and obtains public input in the context of the HMS Advisory Panel, which typically convenes twice a year at meetings that are open to the public.

Classification

The NMFS Assistant Administrator has determined that this final rule is consistent with the Magnuson-Stevens Act, ATCA, and other applicable law, and is necessary to achieve domestic management objectives under the 2006 Consolidated HMS FMP.

The final rule is exempt from the procedures of E.O. 12866 because this action contains no implementing regulations.

The Chief Counsel for Regulation of the Department of Commerce certified to the Chief Counsel for Advocacy of the Small Business Administration during the proposed rule stage that this action would not have a significant economic impact on a substantial number of small entities. The factual basis for the certification was published in the proposed rule and is not repeated here. No comments were received regarding this certification. As a result, a regulatory flexibility analysis was not required and none was prepared.

Section 212 of the Small Business Regulatory Enforcement Fairness Act of 1996 states that, for each rule or group of related rules for which an agency is required to prepare a FRFA, the agency shall publish one or more guides to assist small entities in complying with the rule, and shall designate such publications as “small entity compliance guides.” The agency shall explain the actions a small entity is required to take to comply with a rule or group of rules. As part of this rulemaking process, NMFS has prepared a brochure summarizing fishery information and regulations for Atlantic tuna fisheries for 2014. This brochure also serves as the small entity compliance guide. Copies of the compliance guide are available from NMFS (see ADDRESSES).

Authority: 16 U.S.C. 971 et seq. and 1801 et seq.

Dated: July 1, 2014.
Eileen Sobeck,
Assistant Administrator for Fisheries, National Marine Fisheries Service.

[FR Doc. 2014-15773 Filed 7-3-14; 8:45 am]

BILLING CODE 3510-22-P